DEPARTMENT OF HEALTH AND HUMAN SERVICES

Centers for Disease Control and Prevention

[30Day-25-1369]

Agency Forms Undergoing Paperwork Reduction Act Review

In accordance with the Paperwork Reduction Act of 1995, the Centers for Disease Control and Prevention (CDC) has submitted the information collection request titled “Performance Monitoring of CDC's Core State Injury Prevention Program” to the Office of Management and Budget (OMB) for review and approval. CDC previously published a “Proposed Data Collection Submitted for Public Comment and Recommendations” notice on December 3, 2024 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street, NW, Washington, DC 20503 or by fax to (202) 395-5806. Provide written comments within 30 days of notice publication.

Proposed Project

Performance Monitoring of CDC's Core State Injury Prevention Program (OMB Control No. 0920-1369, Exp. 9/30/2025)—Revision—National Center for Injury Prevention and Comtrol (NCIPC), Centers for Disease Control and Prevention (CDC).

Background and Brief Description

This collection will continue to collect performance monitoring data via a web-based Partners' Portal. This data is needed to monitor the cooperative agreement program funded under the Core State Injury Prevention Program (Core SIPP). Monitoring the impact of population-based strategies and identifying new insights and innovative solutions to health problems are two of the noted public health activities that all public health systems should undertake. For NCIPC/CDC, these objectives cannot be satisfied without the systematic collection of data and information from state health departments. The information collection will enable the accurate, reliable, uniform, and timely submission of each awardee's progress report and injury indicators, including strategies and performance measures.

Information to be collected will provide crucial data for program performance monitoring and provide CDC with the capacity to respond in a timely manner to requests for information about the program from the Department of Health and Human Services (HHS), the White House, Congress, and other sources. Information to be collected will also strengthen CDC's ability to monitor awardee progress, provide data-driven technical assistance, and disseminate the most current surveillance data on unintentional and intentional injuries. The information collection plan proposed here will also generate a variety of routine and customizable reports. State specific reports will allow each awardee to summarize activities and progress towards meeting strategies and performance measure targets related to the reduction and prevention of unintentional and intentional injuries. NCIPC will also have the capacity to generate reports that describe activities and health outcomes across multiple recipients, which will enable better reporting of trends and provision of technical assistance through linking partners across state health departments and collaborating divisions within CDC.

Program recipients will continue to use the information collected to manage and coordinate their activities and to improve their efforts to prevent and control injuries. The Partners' Portal allows recipients to fulfill their annual reporting obligations efficiently by employing user-friendly, easily accessible web-based instruments to collect necessary information for both progress reports and continuation applications including work plans. This approach enables recipients to save pertinent information from one reporting period to the next and reduces the administrative burden on the annual continuation application and the performance monitoring process.

Recipients will report progress and activity information to CDC on an annual schedule using a web-based Partners' Portal. No research design or human subjects are involved. The data will be analyzed using descriptive and summary statistics as well as qualitative summaries. CDC requests OMB approval for an estimated annualized burden of 286 hours.

Estimated Annualized Burden Hours
Type of respondents | Form name | Number of respondents | Number of responses per respondent | Average burden per response (in hours)
Core SIPP Program Recipients | Annual Progress Report | 26 | 1 | 11

Jeffrey M. Zirger,
Lead, Information Collection Review Office, Office of Public Health Ethics and Regulations, Office of Science, Centers for Disease Control and Prevention.

[FR Doc. 2025-12845 Filed 7-9-25; 8:45 am]

BILLING CODE 4163-18-P